DEPARTMENT OF LABOR

Employee Benefits Security Administration

Working Group on Health Care Security; Advisory Council on Employee Welfare and Pension Benefits Plans; Notice of Meeting

Pursuant to the authority contained in Section 512 of the Employee Retirement Income Security Act of 1974 (ERISA), 29 U.S.C. 1142, an open public meeting will be held Thursday, November 6, 2003, of the Advisory Council on Employee Welfare and Pension Benefit Plans Working Group assigned to study the issue of health care security, including consumer-directed health plans and self-insured plans.

The session will take place in Room N-4437 C-D, U.S. Department of Labor Building, 200 Constitution Avenue, NW., Washington, DC 20210. The purpose of the open meeting, which will run from 9:30 a.m. to approximately 12 p.m., is for Working Group members to conclude their report/recommendations for the Secretary of Labor.

Organizations or members of the public wishing to submit a written statement pertaining to the topic may do so by submitting 20 copies to Sharon Morrissey, Executive Secretary, ERISA Advisory Council, U.S. Department of Labor, Room N-5677, 200 Constitution Avenue, NW., Washington, DC 20210. Statements received on or before November 1, 2003 will be included in the record of the meeting. Individuals or representatives of organizations wishing to address the Working Group should forward their request to the Executive Secretary at the above address or via telephone at (202) 693-8668. Oral presentations will be limited to 20 minutes, but an extended statement may be submitted for the record. Individuals with disabilities who need special accommodations should contact Sharon Morrissey by November 1 at the address indicated in this notice.

Signed at Washington, DC, this 17th day of October, 2003.
Ann L. Combs,
Assistant Secretary, Employee Benefits Security Administration.

[FR Doc. 03-26730 Filed 10-22-03; 8:45 am]

BILLING CODE 4510-29-M